POSTAL REGULATORY COMMISSION

39 CFR Part 3030

[Docket Nos. RM2021-2, RM2022-5, RM2022-6, and RM2024-4; Order No. 9427]

RIN 3211-AA37

System for Regulating Rates and Classes for Market Dominant Products

AGENCY: Postal Regulatory Commission.

ACTION: Notice of procedural order.

SUMMARY: The Commission sets a deadline for interested persons to request, by petition in the instant proceedings, that the Commission consider specific proposals for modifications to the ratemaking system or for an alternative system.

DATES: The deadline by petition for modifications to the ratemaking system or for an alternative system: February 17, 2026. The responses to any petition (including the Postal Service Petitions) is due: March 2, 2026.

FOR FURTHER INFORMATION CONTACT: David A. Trissell, General Counsel, at 202-789-6820.

SUPPLEMENTARY INFORMATION:

Table of Contents

I. Introduction

II. Background

III. Procedural Order

IV. Ordering Paragraphs

I. Introduction

The Commission sets a deadline for interested persons, in accordance with 39 CFR 3010.201(b), to request, by petition in the instant proceedings, that the Commission consider specific proposals for modifications to the ratemaking system or for an alternative system. The deadline for such petitions is 30 days after the date of publication of this Order in the Federal Register. On December 22, 2025, the Postal Service filed two petitions. United States Postal Service Petition for Rulemaking to Repeal the Minimum Remittance Payment Requirement, December 22, 2025; United States Postal Service Petition for Rulemaking to Modify the Market-Dominant Ratemaking System to Achieve Objectives 5 and 8, December 22, 2025 (Postal Service Petitions). Responses to any petition (including the Postal Service Petitions) shall be due 44 days after the date of publication of this Order in the Federal Register.

II. Background

On April 5, 2024, the Commission initiated Docket No. RM2024-4 to review the Ratemaking System to determine whether the ratemaking system is achieving the objectives appearing in 39 U.S.C. 3622(b), taking into account the factors in 39 U.S.C. 3622(c).¹ This docket incorporated several other related dockets including RM2021-2, the Commission's examination of a potential Performance Incentive Mechanism. After notice and opportunity for public comment, the Commission determined that the ratemaking system is not achieving such objectives, taking into account such factors.²

¹ Advance Notice of Proposed Rulemaking on the Statutory Review of the System for Regulating Rates and Classes for Market Dominant Products, April 5, 2024 (Order No. 7032).

² See Order Presenting Findings on the Statutory Review of the System for Regulating Rates and Classes for Market Dominant Products (Phase 1 Completion), June 9, 2025 (Order No. 8891).

On June 9, 2025, the Commission indicated that it would “proceed using a phased approach to consider modifications necessary to achieve the statutory objectives.” ³ The Commission stated that, under this approach, it “expects to issue multiple notices of proposed rulemaking.” Order No. 8892 at 2. Among other things, the Commission provided guidance for proposals by interested persons. See id. at 5. The Commission noted that “[i]nterested persons, in accordance with [39 CFR 3010.201] and other applicable procedural rules, may request, by petition, that the Commission consider specific proposals for modifications to the R[at]emaking System or for an alternative system.” Id. The Commission subsequently reiterated this guidance.⁴

³ Procedural Order on Phased Rulemaking, June 9, 2025, at 1-2 (Order No. 8892).

⁴ See Order Denying Motions for Reconsideration, July 24, 2025, at 31-32 (Order No. 9042).

Also on June 9, 2025, the Commission issued Order No. 8893, the first such notice of proposed rulemaking, and initiated Phase 2(a) of the instant proceedings.⁵ Various commenters filed comments in response to Order No. 8893.⁶ Of these, several commenters expressed interest in further information about next steps in the instant proceedings or advocated that certain topics be considered in the next phase of the instant proceedings.⁷

⁵ Notice of Proposed Rulemaking on the Statutory Review of the System for Regulating Rates and Classes for Market Dominant Products (Phase 2a Initiation) (Order No. 8893).

⁶ Order Adopting Rules Limiting Frequency of Rate Increases Above the de minimis Threshold and Adding Criteria for Workshare Discounts for Market Dominant Products (Phase 2a Completion), January 13, 2026, at Section VII (Order No. 9426) (identifying comments).

⁷ See id. (considering comments); Comments of Alliance of Nonprofit Mailers, July 28, 2025, at 13 (“ask[ing] the Commission to propose further modifications that restrain the magnitude of the Postal Service's pricing authority as soon as possible”); Comments of the Greeting Card Association on Order No. 8893, July 28, 2025, at 8 (“The Commission, however, should include in the next phase of this rulemaking an initiative to do away with the density-based pricing authority.”); United States Postal Service Reply Comments in Response to Order No. 8893, August 7, 2025, at 28 (commenting that the Commission should proceed to considering the ratemaking system's “failure . . . to provide adequate revenues for financial stability and to uphold the Postal Service's financial integrity”); cf. Comments of the Association for Postal Commerce, July 28, 2025, at 2, 8-10 (suggesting consideration of density rate authority).

On January 13, 2026, the Commission finalized the rules proposed in Order No. 8893. See Order No. 9426. In doing so, the Commission declined to provide further information about next steps in the instant proceeding. Id. at Section VII. The Commission observed that interested persons still might submit proposals for rule changes, and the Commission was not able to predict the content of any such proposals that may be submitted. Id. However, the Commission also stated that interested persons had had several months in which to prepare proposals, and commenters expressed interest in the next steps in the instant proceedings. Id. Consequently, the Commission stated that it would set a deadline for the submission of such proposals in the instant proceedings by procedural order. Id. The Commission now issues this procedural order.

III. Procedural Order

Petitions under 39 CFR 3010.201(b)(1) for modifications of the ratemaking system, or for adoption of an alternative system, pursuant to 39 U.S.C. 3622(d)(3) in the instant proceedings are due no later than 30 days from the date of publication of this Order in the Federal Register. Any person may file such a petition. See 39 CFR 3010.201(b)(1). Petitions must provide all of the information specified by 39 CFR 3010.201(b)(1)(i) through 39 CFR 3010.201(b)(1)(v). The Commission will consider complete, timely-filed petitions in the instant proceedings.⁸ Responses to any petition (including the Postal Service Petitions) shall be due 44 days from the date of publication of this Order in the Federal Register.

⁸ Nothing in this Order restricts any person from petitioning the Commission under 39 CFR 3010.201(b)(1) at any time. However, petitions that do not comply with the deadline established in this Order, or that do not contain information required by 39 CFR 3010.201(b)(1), should not be expected to be considered as part of the instant proceedings. On October 16, 2025, the Greeting Card Association (GCA) filed an Additional Suggestion, which, in its view, “may . . . be deemed a [39 CFR 3010.201(b)(1)] petition.” Docket No. RM2024-4, et al., Additional Suggestion, October 16, 2025, at 1 (GCA Additional Suggestion); see id. at 4. However, the GCA Additional Suggestion does not include specific proposals, including specific language, in regard to the subject matter of the GCA Additional Suggestion. See 39 CFR 3010.201(b)(1)(iii). In addition, GCA is reminded of its obligation to comply with Rule 124(c) of the rules of practice, which provides that the title of a document filed with the Commission “shall identify each participant on whose behalf the filing is made . . . .” 39 CFR 3010.124(c).

Upon consideration of such petitions, the Commission plans to issue a notice and order establishing one or more new phases of the instant proceedings to address any changes proposed in such petitions that the Commission, in its discretion, decides to pursue and such additional proposals as the Commission may make. See 39 CFR 3010.201(b)(2). The Commission intends to expedite consideration of such proposals. In addition, before closing this docket, the Commission will explain any decision to reject or defer consideration of a petition. See id.

IV. Ordering Paragraphs

It is ordered:

1. This Order, or abstract thereof, shall be published in the Federal Register.

2. The deadline for interested persons, in accordance with 39 CFR 3010.201(b), to request, by petition in the instant proceedings, that the Commission consider specific proposals for modifications to the ratemaking system or for an alternative system is no later than 30 days from the date of publication of this Order in the Federal Register.

3. Responses to any petition (including the Postal Service Petitions) shall be due 44 days from the date of publication of this Order in the Federal Register.

By the Commission.
Mallory S. Richards,
Attorney-Advisor.

[FR Doc. 2026-00902 Filed 1-15-26; 8:45 am]

BILLING CODE 7710-FW-P